DEPARTMENT OF HOMELAND SECURITY

Federal Emergency Management Agency

[Docket ID FEMA-2015-0001; Internal Agency Docket No. FEMA-B-1554]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: November 23, 2015.
Roy E. Wright,
Deputy Associate Administrator for Insurance and Mitigation, Department of Homeland Security, Federal Emergency Management Agency.

State and county | Location and case No. | Chief executive officer of community | Community map repository | Online location of letter of map revision | Effective date of modification | Community No.
Alabama:
Baldwin | City of Foley (15-04-7975P) | The Honorable John E. Koniar, Mayor, City of Foley, P.O. Box 1750, Foley, AL 36535 | City Hall, 407 East Laurel Avenue, Foley, AL 36535 | http://www.msc.fema.gov/lomc | Feb. 28, 2016 | 010007
Tuscaloosa | City of Tuscaloosa (15-04-4630P) | The Honorable Walter Maddox, Mayor, City of Tuscaloosa, P.O. Box 2089, Tuscaloosa, AL 35401 | Engineering Department, 2201 University Boulevard, Tuscaloosa, AL 35401 | http://www.msc.fema.gov/lomc | Oct. 21, 2015 | 010203
Tuscaloosa | City of Tuscaloosa (15-04-6987P) | The Honorable Walter Maddox, Mayor, City of Tuscaloosa, P.O. Box 2089, Tuscaloosa, AL 35401 | Engineering Department, 2201 University Boulevard, Tuscaloosa, AL 35401 | http://www.msc.fema.gov/lomc | Feb. 17, 2016 | 010203
Arkansas: Pulaski | City of North Little Rock (15-06-3972P) | The Honorable Joe Smith, Mayor, City of North Little Rock, P.O. Box 5757, North Little Rock, AR 72119 | Engineering Department, 500 West 13th Street, North Little Rock, AR 72114 | http://www.msc.fema.gov/lomc | Feb. 11, 2016 | 050182
Colorado:
Denver | City and County of Denver (15-08-1063P) | The Honorable Michael B. Hancock, Mayor, City and County of Denver, 1437 Bannock Street, Suite 350, Denver, CO 80202 | Department of Public Works, 201 West Colfax Avenue, Denver, CO 80202 | http://www.msc.fema.gov/lomc | Feb. 29, 2016 | 080046
Eagle | Unincorporated areas of Eagle County (15-08-0620P) | The Honorable Kathy Chandler-Henry, Chair, Eagle County Board of Commissioners, P.O. Box 850, Eagle, CO 81631 | Eagle County Engineering Department, 500 Broadway Street, Eagle, CO 81631 | http://www.msc.fema.gov/lomc | Feb. 12, 2016 | 080051
Florida:
Brevard | Unincorporated areas of Brevard County (15-04-2643P) | The Honorable Robin Fisher, Chairman, Brevard County Board of Commissioners, District 1, 400 South Street, Suite 1-A, Titusville, FL 32780 | Brevard County Public Works Department, 2725 Judge Fran Jamieson Way, Melbourne, FL 32940 | http://www.msc.fema.gov/lomc | Feb. 10, 2016 | 125092
Collier | City of Marco Island (15-04-6066P) | The Honorable Larry Sacher, Chairman, City of Marco Island Council, 50 Bald Eagle Drive, Marco Island, FL 34145 | City Hall, 50 Bald Eagle Drive, Marco Island, FL 34145 | http://www.msc.fema.gov/lomc | Feb. 1, 2016 | 120426
Collier | City of Naples (15-04-3687P) | The Honorable John Sorey III, Mayor, City of Naples, 735 8th Street South, Naples, FL 34102 | Planning Department, 295 Riverside Circle, Naples, FL 34102 | http://www.msc.fema.gov/lomc | Feb. 8, 2016 | 125130
Duval | City of Jacksonville (15-04-5977P) | The Honorable Lenny Curry, Mayor, City of Jacksonville, 117 West Duval Street, Suite 400, Jacksonville, FL 32202 | Development Services Division, 214 North Hogan Street, Room 2100, Jacksonville, FL 32202 | http://www.msc.fema.gov/lomc | Feb. 23, 2016 | 120077
Hillsborough | Unincorporated areas of Hillsborough County (15-04-4418P) | The Honorable Sandra L. Murman, Chair, Hillsborough County Board of Commissioners, District 1, 601 East Kennedy Boulevard, Tampa, FL 33602 | Hillsborough County Center, 601 East Kennedy Boulevard, Tampa, FL 33602 | http://www.msc.fema.gov/lomc | Feb. 17, 2016 | 120112
Lee | City of Bonita Springs (14-04-8856P) | The Honorable Ben L. Nelson, Jr., Mayor, City of Bonita Springs, 9101 Bonita Beach Road, Bonita Springs, FL 34135 | Community Development Department, 9220 Bonita Beach Road, Bonita Springs, FL 34135 | http://www.msc.fema.gov/lomc | Feb. 23, 2016 | 120680
Lee | City of Bonita Springs (15-04-7945P) | The Honorable Ben L. Nelson, Jr., Mayor, City of Bonita Springs, 9101 Bonita Beach Road, Bonita Springs, FL 34135 | Community Development Department, 9220 Bonita Beach Road, Bonita Springs, FL 34135 | http://www.msc.fema.gov/lomc | Feb. 5, 2016 | 120680
Lee | Unincorporated areas of Lee County (15-04-5434P) | The Honorable Brian Hamman, Chairman, Lee County Board of Commissioners, District 4, P.O. Box 398, Fort Myers, FL 33902 | Lee County Community, Development Department, 1500 Monroe Street, Fort Meyers, FL 33901 | http://www.msc.fema.gov/lomc | Feb. 12, 2016 | 125124
Martin | City of Stuart (15-04-4536P) | The Honorable Kelli Glass Leighton, Mayor, City of Stuart, 121 Southwest Flagler Avenue, Stuart, FL 34994 | City Hall, 121 Southwest Flagler Avenue, Stuart, FL 34994 | http://www.msc.fema.gov/lomc | Jan. 29, 2016 | 120165
Miami-Dade | City of Miami Beach (15-04-3498P) | The Honorable Philip Levine, Mayor, City of Miami Beach, 1700 Convention Center Drive, Miami Beach, FL 33139 | City Hall, 1700 Convention Center Drive, Miami Beach, FL 33139 | http://www.msc.fema.gov/lomc | Feb. 5, 2016 | 120651
Monroe | Unincorporated areas of Monroe County (15-04-7977P) | The Honorable Danny Kolhage, Mayor, Monroe County Board of Commissioners, 530 Whitehead Street, Suite 102, Key West, FL 33040 | Monroe County Building Department, 2798 Overseas Highway, Suite 300, Marathon, FL 33050 | http://www.msc.fema.gov/lomc | Feb. 8, 2016 | 125129
Monroe | Unincorporated areas of Monroe County (15-04-8109P) | The Honorable Danny Kolhage, Mayor, Monroe County Board of Commissioners, 530 Whitehead Street, Suite 102, Key West, FL 33040 | Monroe County Building Department, 2798 Overseas Highway, Suite 300, Marathon, FL 33050 | http://www.msc.fema.gov/lomc | Feb. 10, 2016 | 125129
Monroe | Unincorporated areas of Monroe County (15-04-9028P) | The Honorable Danny Kolhage, Mayor, Monroe County Board of Commissioners, 530 Whitehead Street, Suite 102, Key West, FL 33040 | Monroe County Building Department, 2798 Overseas Highway, Suite 300, Marathon, FL 33050 | http://www.msc.fema.gov/lomc | Feb. 22, 2016 | 125129
Orange | City of Orlando (15-04-1761P) | The Honorable Buddy Dyer, Mayor, City of Orlando, P.O. Box 4990, Orlando, FL 32802 | Permitting Services Division, 400 South Orange Avenue, Orlando, FL 32839 | http://www.msc.fema.gov/lomc | Feb. 11, 2016 | 120186
Sarasota | City of Sarasota (15-04-6953P) | The Honorable Willie Charles Shaw, Mayor, City of Sarasota, 1565 1st Street, Room 101, Sarasota, FL 34236 | Building Department, 1565 1st Street, Sarasota, FL 34236 | http://www.msc.fema.gov/lomc | Feb. 26, 2016 | 125150
Georgia:
Columbia | Unincorporated areas of Columbia County (15-04-3830P) | The Honorable Ron C. Cross, Chairman, Columbia County Board of Commissioners, P.O. Box 498, Evans, GA 30809 | Columbia County Engineering Services Department, 630 Ronald Reagan Drive, Building A, East Wing, Evans, GA 30809 | http://www.msc.fema.gov/lomc | Feb. 18, 2016 | 130059
Columbia | Unincorporated areas of Columbia County (15-04-8626P) | The Honorable Ron C. Cross, Chairman, Columbia County Board of Commissioners, P.O. Box 498, Evans, GA 30809 | Columbia County Engineering Services Department, 630 Ronald Reagan Drive, Building A, East Wing, Evans, GA 30809 | http://www.msc.fema.gov/lomc | Feb. 18, 2016 | 130059
Kentucky: Jefferson | Louisville-Jefferson County Metro Government (15-04-6547P) | The Honorable Greg Fischer, Mayor, City of Louisville, 527 West Jefferson Street, 4th Floor, Louisville, KY 40202 | Metropolitan Sewer District, 700 West Liberty Street, Louisville, KY 40202 | http://www.msc.fema.gov/lomc | Feb. 11, 2016 | 210120
Massachusetts:
Bristol | Town of North Attleborough (15-01-1818P) | The Honorable Paul Belham, Sr., Chairman, Town of North Attleborough Selectmen, 43 South Washington Street, North Attleborough, MA 02760 | Public Works Department, 49 Whiting Street, North Attleborough, MA 02760 | http://www.msc.fema.gov/lomc | Feb. 17, 2016 | 250059
Essex | City of Newburyport (15-01-1564P) | The Honorable Donna D. Holaday, Mayor, City of Newburyport, 60 Pleasant Street, Newburyport, MA 01950 | City Hall, 60 Pleasant Street, Newburyport, MA 01950 | http://www.msc.fema.gov/lomc | Feb. 16, 2016 | 250097
Montana: Carbon | Unincorporated areas of Carbon County (15-08-0428P) | The Honorable John Prinkki, Presiding Officer, Carbon County Board of Commissioners, P.O. Box 887, Red Lodge, MT 59068 | Carbon County Floodplain Department, P.O. Box 466, Red Lodge, MT 59068 | http://www.msc.fema.gov/lomc | Feb. 12, 2016 | 300139
New Mexico: Bernalillo | City of Albuquerque (15-06-0268P) | The Honorable Richard J. Berry, Mayor, City of Albuquerque, 1 Civic Plaza Northwest, Albuquerque, NM 87102 | Development and Review Services Division, 600 2nd Street Northwest, Suite 201, Albuquerque, NM 87102 | http://www.msc.fema.gov/lomc | Feb. 3, 2016 | 350002
North Carolina:
Wake | Town of Holly Spings (15-04-6644P) | The Honorable Richard G. Sears, Mayor, Town of Holly Springs, P.O. Box 8, Holly Springs, NC 27540 | Engineering Department, 128 South Main Street, Holly Springs, NC 27540 | http://www.msc.fema.gov/lomc | Feb. 4, 2016 | 370403
Wake | Unincorporated areas of Wake County (15-04-6644P) | The Honorable James West, Chairman, Wake County Board of Commissioners, P.O. Box 550, Raleigh, NC 27602 | Wake County Environmental Services Department, 336 Fayetteville Street, Raleigh, NC 27602 | http://www.msc.fema.gov/lomc | Feb. 4, 2016 | 370368
Pennsylvania:
Berks | Borough of Bally (15-03-0023P) | The Honorable Glenn Mutter, President, Borough of Bally Council, 425 Chestnut Street, Bally, PA 19503 | Borough Hall, 425 Chestnut Street, Bally, PA 19503 | http://www.msc.fema.gov/lomc | Feb. 11, 2016 | 420125
Berks | Township of Washington (15-03-0023P) | The Honorable James P. Roma, Chairman, Township of Washington Board of Supervisors, 120 Barto Road, Barto, PA 19504 | Township Hall, 120 Barto Road, Barto, PA 19504 | http://www.msc.fema.gov/lomc | Feb. 11, 2016 | 421383
Chester | Township of Caln (15-03-2049P) | The Honorable John D. Contento, President, Township of Caln Board of Commissioners, 253 Municipal Drive, Thorndale, PA 19372 | Township Municipal Building, 253 Municipal Drive, Thorndale, PA 19372 | http://www.msc.fema.gov/lomc | Feb. 16, 2016 | 422247
South Carolina: Charleston | Unincorporated areas of Charleston County (15-04-8691P) | The Honorable J. Elliot Summey, Chairman, Charleston County Board of Commissioners, 4045 Bridgeview Drive, Suite B254, North Charleston, SC 29405 | Charleston County Building Inspection Services Division, 4045 Bridgeview Drive, Suite A311, North Charleston, SC 29405 | http://www.msc.fema.gov/lomc | Feb. 22, 2016 | 455413
Texas:
Bexar | City of San Antonio (15-06-0789P) | The Honorable Ivy R. Taylor, Mayor, City of San Antonio, P.O. Box 839966, San Antonio, TX 78283 | Transportation and Capital Improvements Department, Storm Water Division, 1901 South Alamo Street, 2nd Floor, San Antonio, TX 78284 | http://www.msc.fema.gov/lomc | Feb. 4, 2016 | 480045
Bexar | City of San Antonio (15-06-2623P) | The Honorable Ivy R. Taylor, Mayor, City of San Antonio, P.O. Box 839966, San Antonio, TX 78283 | Transportation and Capital Improvements Department, Storm Water Division, 1901 South Alamo Street, 2nd Floor, San Antonio, TX 78284 | http://www.msc.fema.gov/lomc | Feb. 3, 2016 | 480045
El Paso | City of El Paso (15-06-1599P) | The Honorable Oscar Leeser, Mayor, City of El Paso, 300 North Campbell Street, El Paso, TX 79901 | City Hall, 300 North Campbell Street, El Paso, TX 79901 | http://www.msc.fema.gov/lomc | Feb. 5, 2016 | 480214
Houston | City of Houston (14-06-2581P) | The Honorable Annise D. Parker, Mayor, City of Houston, P.O. Box 1562, Houston, TX 77251 | Floodplain Management Office, 1002 Washington Avenue, 3rd Floor, Houston, TX 77002 | http://www.msc.fema.gov/lomc | Feb. 12, 2016 | 480296
Montgomery | Unincorporated areas of Montgomery County (14-06-2160P) | The Honorable Craig Doyal, Montgomery County Judge, 501 North Thompson Street, Suite 401, Conroe, TX 77301 | Montgomery County Permitting Department, 501 North Thompson Street, Suite 100, Conroe, TX 77301 | http://www.msc.fema.gov/lomc | Feb. 26, 2016 | 480483
Williamson | City of Leander (14-06-2567P) | The Honorable Christopher Fielder, Mayor, City of Leander, 200 West Willis Street, Leander, TX 78641 | City Hall, 200 West Willis Street, Leander, TX 78641 | http://www.msc.fema.gov/lomc | Feb. 5, 2016 | 481536

[FR Doc. 2015-31379 Filed 12-11-15; 8:45 am]

BILLING CODE 9110-12-P